DEPARTMENT OF THE INTERIOR

National Park Service

Cape Cod National Seashore, South Wellfleet, MA; Cape Code National Seashore Advisory Commission; Two Hundred Fifty-First Notice of Meeting

Notice is hereby given in accordance with the Federal Advisory Committee Act (Pub. L. 92-463, 86 Stat. 770, 5 U.S.C. App 1, Section 10), that a meeting of the Cape Code National Seashore Advisory Commission will be held on February 14, 2005.

The Commission was reestablished pursuant to Pub. L. 87-126 as amended by Pub. L. 105-280. The purpose of the Commission is to consult with the Secretary of the Interior, or his designee, with respect to matters relating to the development of Cape Cod National Seashore, and with respect to carrying out the provisions of sections 4 and 5 of the Act establishing the Seashore.

The Commission members will meet at 1 p.m. at Headquarters, Marconi Station, Wellfleet, Massachusetts for the regular business meeting to discuss the following:

1. Adoption of Agenda

2. Approval of Minutes of Previous Meeting (December 6, 2004)

3. Reports of Officers

4. Reports of Subcommittees

5. Superintendent's Report

Update on Salt Pond Visitor Center Project

Update on Highlands Center Project

Update on Hunting EIS

Update on Dune Shack Issue

Update on Proposed Herring River Restoration Project

News from Washington

6. Old Business

7. New Business

Pleasant Bay Discussion

8. Date and agenda for next meeting

9. Public comment and

10. Adjournment

The meeting is open to the public. It is expected that 15 persons will be able to attend the meeting in addition to Commission members.

Interested persons may make oral/written presentations to the Commission during the business meeting or file written statement. Such requests should be made to the park superintendent at least seven days prior to the meeting. Further information concerning the meeting may be obtained from the Superintendent, Cape Cod National Seashore, 99 Marconi Site Road, Wellfleet, MA 02667.

Dated: December 15, 2004.
Michael B. Murray,
Acting Superintendent.

[FR Doc. 05-45 Filed 1-3-05; 8:45 am]

BILLING CODE 4312-52-M